DEPARTMENT OF ENERGY

[Docket No. EA-275]

Application to Export Electric Energy; NorthPoint Energy Solutions Inc.

AGENCY: Office of Fossil Energy, DOE.

ACTION: Notice of application.

SUMMARY: NorthPoint Energy Solutions Inc. (“NorthPoint”) has applied for authority to transmit electric energy from the United States to Canada pursuant to section 202(e) of the Federal Power Act.

DATES: Comments, protests or requests to intervene must be submitted on or before February 20, 2003.

ADDRESSES: Comments, protests or requests to intervene should be addressed as follows: Office of Coal & Power Import/Export (FE-27), Office of Fossil Energy, U.S. Department of Energy, 1000 Independence Avenue, SW, Washington, DC 20585-0350 (FAX 202-287-5736).

FOR FURTHER INFORMATION CONTACT: Rosalind Carter (Program Office) 202-586-7983 or Michael Skinker (Program Attorney) 202-586-2793.

SUPPLEMENTARY INFORMATION: Exports of electricity from the United States to a foreign country are regulated and require authorization under section 202(e) of the Federal Power Act (FPA) (16 U.S.C. 824a(e)).

On December 3, 2002, the Office of Fossil Energy (FE) of the Department of Energy (DOE) received an application from NorthPoint to transmit electric energy from the United States to Canada. NorthPoint is a corporation organized and existing under the Business Corporation Act of Saskatchewan, having its principal place of business in Regina, Saskatchewan, Canada. The sole shareholder of Northpoint is Saskatchewan Power Corporation (“SaskPower”), a Provincial Crown Corporation of the Government of Saskatchewan. NorthPoint does not own or control any electric power generation or transmission facilities and does not have a franchised electric power service area in the United States.

NorthPoint will purchase the power to be exported from electric utilities and federal power marketing agencies within the United States. The exported electricity will be delivered to Canada over the existing international transmission facilities owned by Basin Electric Power Cooperative, Bonneville Power Administration, Citizens Utilities Co., International Transmission Company, Eastern Maine Electric Cooperative, Joint Owners of the Highgate Project, Long Sault, Inc., Maine Electric Power Company, Maine Public Service Company, Minnesota Power and Light Inc., Minnkota Power Cooperative, New York Power Authority, Niagara Mohawk Power Corporation, Northern States Power, and Vermont Electric Transmission Company. The construction, operation, maintenance, and connection of each of the international transmission facilities to be utilized by NorthPoint, as more fully described in the application, has previously been authorized by a Presidential permit issued pursuant to Executive Order 10485, as amended.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the NorthPoint application to export electric energy to Canada should be clearly marked with Docket EA-275. Additional copies are to be filed directly with Debra L. McAllister, Senior Legal Counsel, NorthPoint Energy Solutions Inc., 2025 Victoria Avenue, Regina, Saskatchewan, Canada S4P 0SI AND Stan Berman and Todd Glass, Heller Ehrman White & McAuliffe LLP, 701 Fifth Avenue, Seattle, WA 98104..

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the Fossil Energy Home Page at http://www.fe.doe.gov. Upon reaching the Fossil Energy Home page, select “Regulatory Programs,” then “Electricity Regulation,” and then “Pending Proceedings” from the options menus.

Issued in Washington, DC, on January 13, 2003.
Anthony J. Como,
Deputy Director, Electric Power Regulation, Office of Coal & Power Import/Export, Office of Coal & Power Systems, Office of Fossil Energy.

[FR Doc. 03-1216 Filed 1-17-03; 8:45 am]

BILLING CODE 6450-01-P